DEPARTMENT OF HEALTH AND HUMAN SERVICES

Indian Health Service

Community Opioid Intervention Pilot Projects

Announcement Type: New.

Funding Announcement Number: HHS-2021-IHS-COIPP-0001.

Catalog of Federal Domestic Assistance Number: 93.933.

Key Dates

Application Deadline Date: December 15, 2020.

Earliest Anticipated Start Date: January 14, 2021.

I. Funding Opportunity Description

Statutory Authority

The Indian Health Service (IHS) is accepting applications for grants for the Community Opioid Intervention Pilot Projects (COIPP). This program was first established by the Consolidated Appropriations Act of 2019, (Pub. L. 116-6) and the accompanying Conference Report, H. Rpt. 116-9. IHS received a new appropriation of $10 million in FY 2019 to better combat the opioid epidemic by creating a pilot program to address the opioid epidemic in Indian Country to award grants that support the development, documentation, and sharing of locally designed and culturally appropriate prevention, treatment, recovery, and aftercare services for mental health and substance use disorders in American Indian and Alaska Native communities. The IHS received a second appropriation of $10 million in the FY 2020 Further Consolidated Appropriations Act (Pub. L. 116-94). IHS will provide technical assistance to grantees to collect and evaluate performance of the pilot program. This program is authorized under the authority of 25 U.S.C. 13, the Snyder Act, and the Indian Health Care Improvement Act, 25 U.S.C. 1601-1683. This program is described in the Assistance Listings located at https://beta.sam.gov (formerly known as Catalog of Federal Domestic Assistance) under 93.933.

Background

The impact of the opioid crisis on American Indian and Alaska Native (AI/AN) populations is immense. The rate of drug overdose deaths among AI/ANs is above the national average. The Centers for Disease Control and Prevention (CDC) data indicate that AI/ANs had the second highest overdose death rates from all opioids in 2017 (15.7 deaths/100,000 population) among racial/ethnic groups in the United States. AI/ANs had the second highest overdose death rates from heroin (5.2 deaths/100,000 population), third highest from synthetic opioids (6.5 deaths/100,000 population), and the highest rate from prescription opioids (7.2 deaths/100,000 population) during 2016-2017. The overall rate of overdose deaths for AI/ANs increased by 13% during 2015-2017. These numbers may be underestimated for the AI/AN population due to racial misclassification on death certificates as recently published by the CDC Morbidity and Mortality Weekly Report, resulting in inaccurate public health data for the AI/AN population.¹

¹ Joshi, Weiser, & Warren-Mears, Dec 2018. CDC Morbidity and Mortality Weekly Report.

The family remains the primary source of attachment, nurturing, and socialization for humans in our current society, and opioid use disorder (OUD) has had a devastating effect on families. The impact of substance use disorders (SUDs) on the family and individual family members merits attention. Each family and each family member is uniquely affected by the individual using substances including having unmet developmental needs, impaired attachment, economic hardship, legal problems, emotional distress, and sometimes violence being perpetrated against them. For children there is also an increased risk of developing a SUD themselves. Thus, treating only the individual with the active disease of addiction is limited in effectiveness. This grant aims to address the increasing number of infants born to mothers with a SUD, and children who reside in homes with parents with OUD by awarding at least six grant sites to programs that focus on maternal and child health issues.

In keeping with the IHS policy stating that Tribal consultation occurs when a new or revised policy or program is proposed, IHS held a tribal consultation and Urban confer process on the development of a new opioid grant program from June 21, 2019 to September 3, 2019. Formal sessions were held to allow for feedback on priorities, methodologies, and desired outcomes to be used in the selection and award process. IHS received a total of 119 comments from all 12 IHS areas. The comments received represented a wide range of suggestions but several themes emerged, most notably the importance of allowing flexibility in program design and focus areas. Respondents also requested that IHS ensure that programs include: Culturally responsive approaches to addressing the opioid crisis; a focus on education and training for communities on opioids and treatment options; and a high priority area of focus on serving addicted pregnant women and infants pre-exposed to opioids. IHS published a Dear Tribal Leader Letter and Consultation and Conference Summary Report in the IHS Newsroom on April 3, 2020. https://www.ihs.gov/sites/newsroom/themes/responsive2017/display_objects/documents/2020_Letters/DTLL_DUIOLL_OGPP_04032020.pdf.

Purpose

The purpose of this IHS grant is to address the opioid crisis in AI/AN communities by developing and expanding community education and awareness of prevention, treatment and/or recovery activities for opioid misuse and opioid use disorder. The intent is to increase knowledge and use of culturally appropriate interventions and to encourage an increased use of medication-assisted treatment (MAT). This program will support Tribal and Urban Indian communities in their effort to provide prevention, treatment, and recovery services to address the impact of the opioid crisis within their communities. Each application for the COIPP will be required to address the following objectives:

1. Increase public awareness and education about culturally-appropriate and family-centered opioid prevention, treatment, and recovery practices and programs in AI/AN communities.

2. Create comprehensive support teams to strengthen and empower AI/AN families in addressing the opioid crisis in Tribal or Urban Indian communities.

3. Reduce unmet treatment needs and opioid overdose related deaths through the use of MAT.

In alignment with the IHS 2019-2023 Strategic Plan Goal 1: To ensure that comprehensive, culturally appropriate personal and public health services are available and accessible to American Indian and Alaska Native people, the COIPP is designed to provide Tribes with the ability to develop unique and innovative community interventions that will address the opioid crisis at a local level. The IHS supports Tribal and Urban Indian efforts that include addressing substance use prevention, treatment, and aftercare from a community-driven context. The IHS encourages applicants to develop and submit a plan that emphasizes cross-system collaboration, the inclusion of family, youth, and community resources, and culturally appropriate approaches.

II. Award Information

Funding Instrument—Grant

Estimated Funds Available

The total funding identified for fiscal year (FY) 2021 is approximately $16,500,000. This includes approximately $8,250,000 in FY 2019 funds, and $8,250,000 in FY 2020 funds. Individual award amounts for the first budget year are anticipated to be $500,000. The amount of funding available for competing and continuation awards issued under this announcement is subject to the availability of appropriations and budgetary priorities of the Agency. IHS expects to allocate funding for each IHS area to support Tribes, Tribal organizations and Urban Indian Organizations (UIO). The IHS is under no obligation to make awards that are selected for funding under this announcement.

Anticipated Number of Awards

Approximately 33 awards will be issued under this program announcement.

Grant awards will be distributed as follows in the approximate numbers:

• 2 grants in each IHS Area (24 awards total).

• 6 set-aside grants for Urban Indian Organizations.

• 3 set-aside grants with Maternal & Child Health as the population of focus. One grant will be funded in each of the three highest priority IHS Areas (Alaska, Bemidji, and Billings). These priority areas were determined by reviewing opioid-related mortality data from the CDC and opioid use disorder data and opioid-related birth data from the IHS National Data Warehouse.

Period of Performance

The period of performance is for three years.

III. Eligibility Information

1. Eligibility

To be eligible for this New FY 2021 funding opportunity applicants must be one of the following as defined by 25 U.S.C. 1603:

• A Federally-recognized Indian Tribe as defined by 25 U.S.C. 1603(14). The term “Indian Tribe” means any Indian Tribe, band, nation, or other organized group or community, including any Alaska Native village or group or regional or village corporation as defined in or established pursuant to the Alaska Native Claims Settlement Act (85 Stat. 688) [43 U.S.C. 1601 et seq.], which is recognized as eligible for the special programs and services provided by the United States to Indians because of their status as Indians.

• A Tribal organization as defined by 25 U.S.C. 1603(26). The term “Tribal organization” has the meaning given the term in section 4 of the Indian Self-Determination and Education Assistance Act (25 U.S.C. 5304): “Tribal organization” means the recognized governing body of any Indian Tribe; any legally established organization of Indians which is controlled, sanctioned, or chartered by such governing body or which is democratically elected by the adult members of the Indian community to be served by such organization and which includes the maximum participation of Indians in all phases of its activities: Provided that, in any case where a contract is let or grant made to an organization to perform services benefiting more than one Indian Tribe, the approval of each such Indian Tribe shall be a prerequisite to the letting or making of such contract or grant. Applicant shall submit letters of support and/or Tribal Resolutions from the Tribes to be served.

• An Urban Indian organization, as defined by 25 U.S.C. 1603(29), that currently has a grant or contract award from the IHS under the Indian Health Care Improvement Act, 25 U.S.C. 1651-1660h. The term “Urban Indian organization” means a nonprofit corporate body situated in an urban center, governed by an urban Indian controlled board of directors, and providing for the maximum participation of all interested Indian groups and individuals, which body is capable of legally cooperating with other public and private entities for the purpose of performing the activities described in 25 U.S.C. 1653(a). Applicants must provide proof of non-profit status with the application, e.g., 501(c)(3).

Note: Please refer to Section IV.2 (Application and Submission Information/Subsection 2, Content and Form of Application Submission) for additional proof of applicant status documents required, such as Tribal resolutions, proof of non-profit status, etc.

2. Cost Sharing or Matching

IHS does not require matching funds or cost sharing for grants or cooperative agreements.

3. Other Requirements

Applications with budget requests that exceed the highest dollar amount outlined under the Award Information, Estimated Funds Available section, or exceed the Period of Performance outlined under Section II Award Information, Period of Performance will be considered not responsive and will not be reviewed. The Division of Grants Management (DGM) will notify the applicant.

Additional Required Documentation

Tribal Resolution

The DGM must receive an official, signed Tribal Resolution prior to issuing a Notice of Award (NoA) to any applicant selected for funding. An Indian Tribe or Tribal organization that is proposing a project affecting another Indian Tribe must include resolutions from all affected Tribes to be served. However, if an official, signed Tribal Resolution cannot be submitted with the application prior to the application deadline date, a draft Tribal Resolution must be submitted with the application by the deadline date in order for the application to be considered complete and eligible for review. The draft Tribal Resolution is not in lieu of the required signed resolution, but is acceptable until a signed resolution is received. If an official, signed Tribal Resolution is not received by DGM when funding decisions are made, then a NoA will not be issued to that applicant, and the applicant will not receive IHS funds until it has submitted a signed resolution to the Grants Management Specialist listed in this funding announcement.

Proof of Non-Profit Status

Organizations claiming non-profit status must submit a current copy of the 501(c)(3) Certificate with the application.

IV. Application and Submission Information

1. Obtaining Application Materials

The application package and detailed instructions for this announcement are hosted on https://www.Grants.gov.

Please direct questions regarding the application process to Mr. Paul Gettys at (301) 443-2114 or (301) 443-5204.

2. Content and Form Application Submission

The applicant must include the project narrative as an attachment to the application package. Mandatory documents for all applicants include:

• Abstract (one page) summarizing the project.

• Application forms:

1. SF-424, Application for Federal Assistance.

2. SF-424A, Budget Information—Non-Construction Programs.

3. SF-424B, Assurances—Non-Construction Programs.

• Project Narrative (not to exceed 10 pages). See Section IV.2.A Project Narrative for instructions.

1. Background information on the organization.

2. Proposed scope of work, objectives, and activities that provide a description of what the applicant plans to accomplish.

• Budget Justification and Narrative (not to exceed 4 pages). See Section IV.2.B Budget Narrative for instructions.

• Timeline (one-page)

• Tribal Resolution or Tribal Letter of Support (only required for Tribes and Tribal organizations).

• Letter(s) of Commitment:

1. From Local Organizational Partners;

2. From Community Partners;

3. For Tribal organizations: From the board of directors (or relevant equivalent);

4. For urban Indian organizations: From the board of directors (or relevant equivalent).

• 501(c)(3) Certificate (if applicable).

• Biographical sketches for all key personnel (e.g., project director, project coordinator, grants coordinator, etc.) (not to exceed 1 page each).

• Contractor/consultant qualifications and scope of work.

• Disclosure of Lobbying Activities (SF-LLL).

• Certification Regarding Lobbying (GG-Lobbying Form).

• Copy of current Negotiated Indirect Cost rate (IDC) agreement (required in order to receive IDC).

• Documentation of current Office of Management and Budget (OMB) Financial Audit (if applicable).

Acceptable forms of documentation include:

1. Email confirmation from Federal Audit Clearinghouse (FAC) that audits were submitted; or

2. Face sheets from audit reports. Applicants can find these on the FAC website: https://harvester.census.gov/facdissem/Main.aspx.

Public Policy Requirements

All Federal public policies apply to IHS grants and cooperative agreements with the exception of the Discrimination Policy.

Requirements for Project and Budget Narratives

A. Project Narrative: This narrative should be a separate document that is no more than 10 pages and must: (1) Have consecutively numbered pages; (2) use black font 12 points or larger; (3) be single-spaced; (4) and be formatted to fit standard letter paper (8½ x 11 inches).

Be sure to succinctly answer all questions listed under the evaluation criteria (refer to Section V.1, Evaluation Criteria) and place all responses and required information in the correct section noted below or they will not be considered or scored. If the narrative exceeds the page limit, the application will be considered not responsive and not be reviewed. The 10-page limit for the narrative does not include the standard forms, Tribal Resolutions, budget, budget justification and narrative, and/or other appendix items.

There are four (4) parts to the project narrative:

Part 1—Statement of Need

Part 2—Program Plan (Objectives and Activities)

Part 3—Organizational Capacity

Part 4—Program Evaluation (Data Collection and Reporting)

Part 1: Statement of Need (Limit—1 Page)

Describe the extent of the problem related to opioid misuse in the applicant's community (“community” means the applicant's Tribe, village, Tribal organization, consortium of Tribes or Tribal organizations, or urban center). Provide the facts and evidence that support the need for the project and establish that the Tribe, Tribal organization, or UIO understand the problems and can reasonably address them. This section must also succinctly but completely answer the questions listed under the evaluation criteria in Section V.1.A Statement of Need.

Part 2: Program Plan (Objectives and Activities) (Limit—6 Pages)

Describe the scope of work the Tribe, Tribal organization, or UIO by clearly and concisely outlining the following required components:

1. Goals and Objectives. Reference all required objectives.

2. Project Activities. Link your project activities to your outlined goals and objectives.

This section must also succinctly but completely answer the questions listed under the evaluation criteria in Section V.1.B Program Plan (Objectives and Activities).

Part 3: Organizational Capacity (Limit—2 Pages)

Describe the Tribe, Tribal organization, or UIO's organizational capacity to implement the proposed activities, in the following areas: Ability to provide direct care, treatment and services, including MAT; Current or ongoing projects related to opioid prevention, treatment, recovery support, and aftercare; and a detailed description of partnerships and networks with opioid misuse providers. Provide detail on significant program activities and achievements/accomplishments over the past five years associated with opioid prevention, treatment, recovery support, and aftercare activities. Provide success stories, data or other examples of how other funded projects/programs made an impact in your community to address opioid use. If applicable, provide justification for lack of progress of previous efforts. This section must also succinctly but completely answer the questions listed under the evaluation criteria in Section V.1.C Organizational Capacity.

Part 4: Program Evaluation (Limit—1 Page)

Based on the required activities in Section V describe how the Tribe, Tribal organization, or UIO plans to collect data for the proposed project and activities. Identify any type(s) of evaluation(s) that will be used and how you will collaborate with partners to complete any evaluation efforts or data collection. Progress reports will include compilation of quantitative data (e.g., number served; screenings completed) and qualitative or narrative (text) data. Reporting elements should be specific to activities/programs, processes and outcomes such as performance measures and other data relevant to evaluation outcomes including intended results (i.e., impact and outcomes). The IHS will partner with Technical Assistance Providers to assist grantees in developing data collection and evaluation plans and tools. Grantees will be required to collect and submit semi-annual and annual progress reports. Additional information regarding Data Collection refer to Section V.1.D. Program Evaluation (Data Collection & Reporting).

In an effort to reduce the data collection burden for this grant program, IHS will compile and analyze aggregate program statistics from existing data sources to assist in evaluation of the projects. Aggregate data may include, but is not limited to, associated community-level Government Performance and Results Act (GPRA) health care facility data available in the National Data Warehouse. For additional information regarding IHS Government Performance and Results Act (GPRA) https://www.ihs.gov/crs/gprareporting/. Comprehensive information about CRS software and logic is at https://www.ihs.gov/crs/.

B. Budget Narrative (Limit—4 Pages): Provide a budget narrative that explains the amounts requested for each line item of the budget. The budget narrative should specifically describe how each item will support the achievement of proposed objectives. Be very careful about showing how each item in the “Other” category is justified. For subsequent budget years, the narrative should highlight the changes from year 1 or clearly indicate that there are no substantive budget changes during the period of performance. Do NOT use the budget narrative to expand the project narrative.

3. Submission Dates and Times

Applications must be submitted through Grants.gov by 11:59 p.m. Eastern Daylight Time (EDT) on the Application Deadline Date. Any application received after the application deadline will not be accepted for review. Grants.gov will notify the applicant via email if the application is rejected.

If technical challenges arise and assistance is required with the application process, contact Grants.gov Customer Support (see contact information at https://www.Grants.gov). If problems persist, contact Mr. Paul Gettys (Paul.Gettys@ihs.gov), Acting Director, DGM, by telephone at (301) 443-2114 or (301) 443-5204. Please be sure to contact Mr. Gettys at least ten days prior to the application deadline. Please do not contact the DGM until you have received a Grants.gov tracking number. In the event you are not able to obtain a tracking number, call the DGM as soon as possible.

IHS will not acknowledge receipt of applications.

4. Intergovernmental Review

Executive Order 12372 requiring intergovernmental review is not applicable to this program.

5. Funding Restrictions

• Pre-award costs are allowable up to 90 days before the start date of the award provided the costs are otherwise allowable if awarded. Pre-award costs are incurred at the risk of the applicant.

• The available funds are inclusive of direct and indirect costs.

• Only one grant will be awarded per applicant.

• The purchase of food (i.e., as supplies, for meetings or events) is not an allowable cost with this grant funding and should not be included in the budget/budget justification. If food is included in the budget of an awarded application, those funds will be restricted until the applicant supplies a modified budget eliminating those costs.

6. Electronic Submission Requirements

All applications must be submitted via Grants.gov. Please use the https://www.Grants.gov website to submit an application. Find the application by selecting the “Search Grants” link on the homepage. Follow the instructions for submitting an application under the Package tab. No other method of application submission is acceptable.

If the applicant cannot submit an application through Grants.gov, a waiver must be requested. Prior approval must be requested and obtained from Mr. Paul Gettys, Acting Director, DGM. A written waiver request must be sent to GrantsPolicy@ihs.gov with a copy to Paul.Gettys@ihs.gov. The waiver request must: (1) Be documented in writing (emails are acceptable) before submitting an application by some other method, and (2) include clear justification for the need to deviate from the required application submission process.

Once the waiver request has been approved, the applicant will receive a confirmation of approval email containing submission instructions. A copy of the written approval must be included with the application that is submitted to the DGM. Applications that are submitted without a copy of the signed waiver from the Acting Director of the DGM will not be reviewed. The Grants Management Officer of the DGM will notify the applicant via email of this decision. Applications submitted under waiver must be received by the DGM no later than 5:00 p.m., EDT, on the Application Deadline Date. Late applications will not be accepted for processing. Applicants that do not register for both the System for Award Management (SAM) and Grants.gov and/or fail to request timely assistance with technical issues will not be considered for a waiver to submit an application via alternative method.

Please be aware of the following:

• Please search for the application package in https://www.Grants.gov by entering the Assistance Listing (CFDA) number or the Funding Opportunity Number. Both numbers are located in the header of this announcement.

• If you experience technical challenges while submitting your application, please contact Grants.gov Customer Support (see contact information at https://www.Grants.gov).

• Upon contacting Grants.gov, obtain a tracking number as proof of contact. The tracking number is helpful if there are technical issues that cannot be resolved and a waiver from the agency must be obtained.

• Applicants are strongly encouraged not to wait until the deadline date to begin the application process through Grants.gov as the registration process for SAM and Grants.gov could take up to twenty working days.

• Please follow the instructions on Grants.gov to include additional documentation that may be requested by this funding announcement.

• Applicants must comply with any page limits described in this funding announcement.

• After submitting the application, the applicant will receive an automatic acknowledgment from Grants.gov that contains a Grants.gov tracking number. The IHS will not notify the applicant that the application has been received.

Dun and Bradstreet (D&B) Data Universal Numbering System (DUNS)

Applicants and grantee organizations are required to obtain a DUNS number and maintain an active registration in the SAM database. The DUNS number is a unique 9-digit identification number provided by D&B that uniquely identifies each entity. The DUNS number is site specific; therefore, each distinct performance site may be assigned a DUNS number. Obtaining a DUNS number is easy, and there is no charge. To obtain a DUNS number, please access the request service through https://fedgov.dnb.com/webform, or call (866) 705-5711.

The Federal Funding Accountability and Transparency Act of 2006, as amended (“Transparency Act”), requires all HHS recipients to report information on sub-awards. Accordingly, all IHS grantees must notify potential first-tier sub-recipients that no entity may receive a first-tier sub-award unless the entity has provided its DUNS number to the prime grantee organization. This requirement ensures the use of a universal identifier to enhance the quality of information available to the public pursuant to the Transparency Act.

System for Award Management (SAM)

Organizations that are not registered with SAM must have a DUNS number first, then access the SAM online registration through the SAM home page at https://www.sam.gov/SAM/ (U.S. organizations will also need to provide an Employer Identification Number from the Internal Revenue Service that may take an additional 2-5 weeks to become active). Please see SAM.gov for details on the registration process and timeline. Registration with the SAM is free of charge, but can take several weeks to process. Applicants may register online at https://www.sam.gov/SAM/.

Additional information on implementing the Transparency Act, including the specific requirements for DUNS and SAM, are available on the DGM Grants Management, Policy Topics web page: https://www.ihs.gov/dgm/policytopics/.

V. Application Review Information

Weights assigned to each section are noted in parentheses. The 10-page project narrative should include only the first year of activities; information for multi-year projects should be included as an appendix. See “Multi-year Project Requirements” at the end of this section for more information. The narrative section should be written in a manner that is clear to outside reviewers unfamiliar with prior related activities of the applicant. It should be well organized, succinct, and contain all information necessary for reviewers to understand the project fully. Points will be assigned to each evaluation criteria adding up to a total of 100 possible points. Points are assigned as follows:

1. Evaluation Criteria

Required Activities

The focus of this pilot program is to support AI/ANs in their efforts to provide prevention, treatment, aftercare, and recovery services to address the impact of the opioid crisis in Native communities. All COIPP activities should be culturally-based, and family-oriented.

IHS is seeking applications that include all of the following required activities:

1. Community Awareness and Education:

a. Grantees shall promote family, youth and community engagement in the planning and implementation of opioid use prevention.

b. Grantees shall design community awareness campaigns and education programs that inform and train community members on how to recognize the signs of opioid misuse and overdose. Educational tool(s) shall be culturally-appropriate and intended to engage families.

c. Grantees will develop educational resources, such as factsheets using culturally relevant messaging; disseminate materials through community stakeholders and community partners, and identify culturally appropriate ways to implement educational programs in their local communities.

d. Awareness Campaign should include instructions on the following, among others:

• How to access local opioid-specific services.

• How to safeguard controlled prescription medications from children and adolescents.

• How to dispose properly of unused controlled prescription medications.

2. Expand access to MAT services that include Tribal values, culture, and treatments:

a. Promote family, youth and community engagement in the planning and implementation of opioid use treatment.

b. Increase number of providers receiving training in MAT services that include Tribal values, culture, and treatments.

c. Increase access to continuing education on MAT.

d. Expand access to integrated MAT services for Tribal communities, including TeleMAT.

e. Increase the availability and utilization of MAT to include Buprenorphine (all FDA approved formulations for OUD); buprenorphine/naloxone combination product, and/or naltrexone to Tribal communities in both rural and urban settings.

f. Increase awareness and distribution of naloxone as an overdose intervention and teach skills in how to use it.

3. Build a support system for strengthening Native families by implementing culturally-appropriate approaches.

a. Promote family, youth and community engagement in the planning and implementation of opioid use recovery activities.

b. Develop a family-focused and culturally-based assessment that captures biopsychosocial needs of AI/ANs.

c. Link assessment needs to support and recovery services.

d. Collaborate with relevant partners to build a support system for recovery.

Applications will be reviewed and scored according to the quality of responses to the required application components in Sections A-E. The number of points after each heading is the maximum number of points a review committee may assign to that section. Although scoring weights are not assigned to individual numbers, responses to each number are assessed in deriving the overall section score.

A. Statement of Need (20 Points)

1. Describe the extent of the problem related to opioid misuse in the applicant's community (“community” means the applicant's Tribe, village, Tribal organization, consortium of Tribes or Tribal organizations, or urban center). Provide the facts and evidence that support the need for the project and establish that the Tribe, Tribal organization, or UIO understands the problems and can reasonably address them.

2. Include a description of social determinants of health that may contribute to the opioid crisis in the community. Include details on economic stability (such as housing and food insecurity); education (such as early childhood education and development, high school graduation, and language and literacy); social and community context (such as discrimination, incarceration, and social cohesion); health and health care (such as access to health care and health literacy); and neighborhood and built environment (such as access to foods that support healthy eating patterns, crime and violence, environmental conditions, and quality of housing).

3. Provide background information on the Tribe, Tribal organization, or UIO.

4. Based on the information and/or data currently available, document the prevalence of opioid misuse rates.

5. Based on the information and/or data currently available, document the need to increase the capacity to implement, sustain, and improve effective opioid misuse prevention, treatment, aftercare, and recovery services in the proposed catchment area that is consistent with the purpose of this funding opportunity announcement.

6. Describe the service gaps and other problems related to the need for funds targeting opioid misuse. Identify the source of the data.

7. Describe potential Tribal and community partners and resources in the catchment area that can participate in the broad community awareness campaign.

8. Affirm that the goals of the project are consistent with priorities of the Tribal government or board of directors and that the governing body is in support of this application.

B. Program Plan (Objectives and Activities) (35 Points)

1. Identify the population of focus for your project. Describe the purpose of the proposed project, including goals and objectives and how they are linked. Describe how the achievement of goals will increase Tribe, Tribal organization, or UIO's capacity to support the goals and required activities identified in Section I of this announcement.

2. Describe how the proposed project activities are related to the proposed project's goals and objectives. Describe how the project activities will increase the capacity of the community to prevent, and treat opioid addiction in the communities.

3. Describe organizational capacity to implement the proposed activities, including increased public awareness and education on opioids; developing a comprehensive support team to strengthen and empower AI/AN families in addressing the opioid crisis in Tribal or Urban Indian communities; and integrating the use of MAT into their community.

4. Describe how community partners (prevention and recovery support providers, substance use disorder treatment programs, peer recovery specialists, social workers, behavioral health clinics, community health centers, youth serving organizations, family and youth homeless providers, child welfare agencies, and primary care providers, pharmacists, schools, clergy, and law enforcement, among others) will be involved in the planning and implementation of the project.

5. Describe if/how the efforts of the proposed project will be coordinated with any other related Federal grants or programs funded through IHS, SAMHSA, BIA, or other Federal agencies.

6. Provide a chart depicting a realistic timeline for the project period showing key activities, milestones, and responsible staff. These key activities should include the required activities identified in Section V of this announcement.

C. Organizational Capacity (15 Points)

Describe organizational capacity to implement the proposed activities, including increased public awareness and education on opioids; developing a comprehensive support team to strengthen and empower AI/AN families in addressing the opioid crisis in Tribal or Urban Indian communities; and integrating the use of MAT into the Tribal community.

1. Describe significant program activities and achievements or accomplishments over the past 5 years associated with opioid use prevention, treatment and aftercare.

2. Describe the applicant Tribe, Tribal organization, or UIO's experience and capacity to provide culturally appropriate/competent opioid use services to the community and specific populations of focus.

3. Describe the resources available for the proposed project (e.g., facilities, equipment, information technology systems, and financial management systems).

4. Describe how project continuity will be maintained if/when there is a change in the operational environment (e.g., staff turnover, change in project leadership, change in elected officials) to ensure project stability over the life of the grant.

5. Provide a complete list of staff positions anticipated for the project, including the Project Director, Project Coordinator, and other key personnel, showing the role of each and their level of effort and qualifications.

6. For key staff currently on board, include a biographical sketch for the Project Director, Project Coordinator, or other key positions as attachments to the project proposal/application. Do not include any of the following in the biographical sketch:

Personally Identifiable Information (i.e., SSN, home address);

Resumes; or

Curriculum Vitae.

D. Program Evaluation (Data Collection and Reporting) (20 Points)

Grantees will be required to collect and submit semi-annual and annual progress reports. Logic Models are highly recommended to provide guidance on collecting data for evaluation purposes (see Attachment A). Applicants are expected to collect data within their communities on prevalence rates on opioid use disorders and other data metrics related to opioid-related mortality and morbidity.

1. Progress reports will include the compilation of quantitative data (e.g., number served; screenings completed) and qualitative or narrative (text) data.

2. Reporting elements should include data from local community-based and evidence-based programs which pertain to proposed activities, processes and outcomes such as performance measures and other data relevant to evaluation outcomes including intended results (i.e., impact and outcomes).

3. Describe how the applicant will measure variables, what method will be used and how the data will be used for quality improvement and sustainability of program and meeting required reporting deadlines.

4. Based on the required objectives, describe the type(s) of evaluation(s) that will be used and how the applicant will collaborate with partners such as Tribal Epidemiology Centers or Urban Epidemiology Centers to complete any evaluation efforts or data collection.

5. Describe a data plan on how to prioritize screening efforts such as the Screening, Brief Intervention, and Referral to Treatment (SBIRT) to identify patients at at-risk levels who use illicit drugs and are referred for appropriate services. Describe how the data collection plan includes efforts that support the IHS Division of Behavioral Health (DBH) GPRA measure 1) Proportion of AI/ANs that received the Screening, Brief Intervention, and Referral to Treatment (SBIRT).

6. Describe how annual progress reports will be entered into the Behavioral Health Reporting portal system and capability and experience with similar evaluations.

7. Describe any data-sharing agreements that are established, or which will be established, in support of these activities.

E. Budget and Budget Justification (10 Points)

1. Include a line item budget for all expenditures identifying reasonable and allowable costs necessary to accomplish the goals and objectives as outlined in the project narrative for Project Year 1 only. The budget expenditures should correlate with the scope of work described in the project narrative for the first project year expenses only.

2. Provide a narrative justification of the budget line items, as well as a description of existing resources and other support the applicant expects to receive for the proposed project. Other support is defined as funds or resources, whether Federal, non-Federal or institutional, in direct support of activities through fellowships, gifts, prizes, in-kind contributions or non-Federal means. (This should correspond to Item #18 on the SF-424, Estimated Funding, and SF-424A Budget Information, Section C Non-Federal resources.)

3. Provide a narrative justification supporting the development or continued collaboration with other partners regarding the proposed activities to be implemented.

4. Depending on the availability of funds, the IHS may host annual meetings to provide in-depth training and technical assistance to awardees. In order to help establish critical mass of community and staff members who are informed and committed to implement the project, awardees should plan to send a minimum of three people (including the Project Director/Project Coordinator) to one meeting of all awardees in each year of the grant. At these meetings, awardees will receive training related to grant objectives, discuss success and challenges in implementation of the program, present the results of their projects, and receive other technical assistance from IHS staff and/or contractors. Each meeting may be up to 3 days. The locations will be determined at a later date, but applicants should estimate costs for Denver, CO as a potential site that is accessible to most of “Indian Country” and attendance is strongly encouraged.

Multi-Year Project Requirements

Applications must include a brief project narrative and budget (one additional page per year) addressing the developmental plans for each additional year of the project. This attachment will not count as part of the project narrative or the budget narrative.

Additional documents can be uploaded as Appendix Items in Grants.gov

• Work plan, logic model and/or time line for proposed objectives.

• Position descriptions for key staff (i.e., Project Director, Project Coordinator).

• Consultant or contractor proposed scope of work and letter of commitment (if applicable).

• Organizational chart.

• Map of area identifying project location(s).

• Additional documents to support narrative (e.g., data tables, relevant news articles).

• Advisory board(s) description (membership, roles and functions, and frequency of meetings).

2. Review and Selection

Each application will be prescreened for eligibility and completeness as outlined in the funding announcement. Applications that meet the eligibility criteria shall be reviewed for merit by the Objective Review Committee (ORC) based on evaluation criteria. Incomplete applications and applications that are not responsive to the administrative thresholds will not be referred to the ORC and will not be funded. The applicant will be notified of this determination.

Applicants must address all program requirements and provide all required documentation.

3. Notifications of Disposition

All applicants will receive an Executive Summary Statement from the IHS DBH within 30 days of the conclusion of the ORC outlining the strengths and weaknesses of their application. The summary statement will be sent to the Authorizing Official identified on the face page (SF-424) of the application.

A. Award Notices for Funded Applications

The Notice of Award (NoA) is the authorizing document for which funds are dispersed to the approved entities and reflects the amount of Federal funds awarded, the purpose of the grant, the terms and conditions of the award, the effective date of the award, and the budget/project period. Each entity approved for funding must have a user account in GrantSolutions in order to retrieve the NoA. Please see the Agency Contacts list in Section VII for the systems contact information.

B. Approved but Unfunded Applications

Approved applications not funded due to lack of available funds will be held for one year. If funding becomes available during the course of the year, the application may be reconsidered.

Note: Any correspondence other than the official NoA executed by an IHS grants management official announcing to the project director that an award has been made to their organization is not an authorization to implement their program on behalf of the IHS.

VI. Award Administration Information

1. Administrative Requirements

Grants are administered in accordance with the following regulations and policies:

A. The criteria as outlined in this funding announcement.

B. Administrative Regulations for Grants:

• Uniform Administrative Requirements for HHS Awards, located at 45 CFR part 75.

C. Grants Policy:

• HHS Grants Policy Statement, Revised 01/07.

D. Cost Principles:

• Uniform Administrative Requirements for HHS Awards, “Cost Principles,” located at 45 CFR part 75, subpart E.

E. Audit Requirements:

• Uniform Administrative Requirements for HHS Awards, “Audit Requirements,” located at 45 CFR part 75, subpart F.

2. Indirect Costs

This section applies to all recipients that request reimbursement of indirect costs (IDC) in their application budget. In accordance with HHS Grants Policy Statement, Part II-27, IHS requires applicants to obtain a current IDC rate agreement, and submit it to DGM, prior to DGM issuing an award. The rate agreement must be prepared in accordance with the applicable cost principles and guidance as provided by the cognizant agency or office. A current rate covers the applicable grant activities under the current award's budget period. If the current rate agreement is not on file with the DGM at the time of award, the IDC portion of the budget will be restricted. The restrictions remain in place until the current rate agreement is provided to the DGM.

Available funds are inclusive of direct and appropriate indirect costs. Approved indirect funds are awarded as part of the award amount, and no additional funds will be provided.

Generally, IDC rates for IHS grantees are negotiated with the Division of Cost Allocation (DCA) https://rates.psc.gov/ or the Department of Interior (Interior Business Center) https://ibc.doi.gov/ICS/tribal. For questions regarding the indirect cost policy, please call the Grants Management Specialist listed under “Agency Contacts” or the main DGM office at (301) 443-5204.

3. Reporting Requirements

The awardee must submit required reports consistent with the applicable deadlines. Failure to submit required reports within the time allowed may result in suspension or termination of an active grant, withholding of additional awards for the project, or other enforcement actions such as withholding of payments or converting to the reimbursement method of payment. Continued failure to submit required reports may result in one or both of the following: (1) The imposition of special award provisions; and (2) the non-funding or non-award of other eligible projects or activities. This requirement applies whether the delinquency is attributable to the failure of the awardee organization or the individual responsible for preparation of the reports. Per DGM policy, all reports are required to be submitted electronically by attaching them as a “Grant Note” in GrantSolutions. Personnel responsible for submitting reports will be required to obtain a login and password for GrantSolutions. Please see the Agency Contacts list in Section VII for the systems contact information.

The reporting requirements for this program are noted below.

A. Progress Reports

Program progress reports are required semi-annually, within 30 days after the budget period ends (specific dates will be listed in the NoA Terms and Conditions). These reports must include a brief comparison of actual accomplishments to the goals established for the period, a summary of progress to date or, if applicable, provide sound justification for the lack of progress, and other pertinent information as required. A final report must be submitted within 90 days of expiration of the period of performance.

B. Financial Reports

Federal Financial Report (FFR or SF-425), Cash Transaction Reports are due 30 days after the close of every calendar quarter to the Payment Management Services, HHS at https://pms.psc.gov. The applicant is also requested to upload a copy of the FFR (SF-425) into our grants management system, GrantSolutions. Failure to submit timely reports may result in adverse award actions blocking access to funds.

Grantees are responsible and accountable for accurate information being reported on all required reports: The Progress Reports and Federal Financial Report.

C. Federal Sub-Award Reporting System (FSRS)

This award may be subject to the Transparency Act sub-award and executive compensation reporting requirements of 2 CFR part 170.

The Transparency Act requires the OMB to establish a single searchable database, accessible to the public, with information on financial assistance awards made by Federal agencies. The Transparency Act also includes a requirement for recipients of Federal grants to report information about first-tier sub-awards and executive compensation under Federal assistance awards.

IHS has implemented a Term of Award into all IHS Standard Terms and Conditions, NoAs and funding announcements regarding the FSRS reporting requirement. This IHS Term of Award is applicable to all IHS grant and cooperative agreements issued on or after October 1, 2010, with a $25,000 sub-award obligation dollar threshold met for any specific reporting period. Additionally, all new (discretionary) IHS awards (where the period of performance is made up of more than one budget period) and where: (1) The period of performance start date was October 1, 2010 or after, and (2) the primary awardee will have a $25,000 sub-award obligation dollar threshold during any specific reporting period will be required to address the FSRS reporting.

For the full IHS award term implementing this requirement and additional award applicability information, visit the DGM Grants Policy website at http://www.ihs.gov/dgm/policytopics/.

D. Compliance With Executive Order 13166 Implementation of Services Accessibility Provisions for All Grant Application Packages and Funding Opportunity Announcements

Recipients of Federal financial assistance (FFA) from HHS must administer their programs in compliance with Federal civil rights laws that prohibit discrimination on the basis of race, color, national origin, disability, age and, in some circumstances, religion, conscience, and sex. This includes ensuring programs are accessible to persons with limited English proficiency. The HHS Office for Civil Rights provides guidance on complying with civil rights laws enforced by HHS. Please see https://www.hhs.gov/civil-rights/for-providers/provider-obligations/index.html and http://www.hhs.gov/ocr/civilrights/understanding/section1557/index.html.

• Recipients of FFA must ensure that their programs are accessible to persons with limited English proficiency. HHS provides guidance to recipients of FFA on meeting their legal obligation to take reasonable steps to provide meaningful access to their programs by persons with limited English proficiency. Please see https://www.hhs.gov/civil-rights/for-individuals/special-topics/limited-english-proficiency/fact-sheet-guidance/index.html and https://www.lep.gov. For further guidance on providing culturally and linguistically appropriate services, recipients should review the National Standards for Culturally and Linguistically Appropriate Services in Health and Health Care at https://minorityhealth.hhs.gov/omh/browse.aspx?lvl=2&lvlid=53.

• Recipients of FFA also have specific legal obligations for serving qualified individuals with disabilities. Please see http://www.hhs.gov/ocr/civilrights/understanding/disability/index.html.

• HHS funded health and education programs must be administered in an environment free of sexual harassment. Please see https://www.hhs.gov/civil-rights/for-individuals/sex-discrimination/index.html; https://www2.ed.gov/about/offices/list/ocr/docs/shguide.html; and https://www.eeoc.gov/eeoc/publications/fs-sex.cfm.

• Recipients of FFA must also administer their programs in compliance with applicable Federal religious nondiscrimination laws and applicable Federal conscience protection and associated anti-discrimination laws. Collectively, these laws prohibit exclusion, adverse treatment, coercion, or other discrimination against persons or entities on the basis of their consciences, religious beliefs, or moral convictions. Please see https://www.hhs.gov/conscience/conscience-protections/index.html and https://www.hhs.gov/conscience/religious-freedom/index.html.

Please contact the HHS Office for Civil Rights for more information about obligations and prohibitions under Federal civil rights laws at https://www.hhs.gov/ocr/about-us/contact-us/index.html or call 1-800-368-1019 or TDD 1-800-537-7697.

E. Federal Awardee Performance and Integrity Information System (FAPIIS)

The IHS is required to review and consider any information about the applicant that is in the Federal Awardee Performance and Integrity Information System (FAPIIS), at https://www.fapiis.gov, before making any award in excess of the simplified acquisition threshold (currently $150,000) over the period of performance. An applicant may review and comment on any information about itself that a Federal awarding agency previously entered. IHS will consider any comments by the applicant, in addition to other information in FAPIIS in making a judgment about the applicant's integrity, business ethics, and record of performance under Federal awards when completing the review of risk posed by applicants as described in 45 CFR 75.205.

As required by 45 CFR part 75 Appendix XII of the Uniform Guidance, non-Federal entities (NFEs) are required to disclose in FAPIIS any information about criminal, civil, and administrative proceedings, and/or affirm that there is no new information to provide. This applies to NFEs that receive Federal awards (currently active grants, cooperative agreements, and procurement contracts) greater than $10,000,000 for any period of time during the period of performance of an award/project.

Mandatory Disclosure Requirements

As required by 2 CFR part 200 of the Uniform Guidance, and the HHS implementing regulations at 45 CFR part 75, the IHS must require a non-Federal entity or an applicant for a Federal award to disclose, in a timely manner, in writing to the IHS or pass-through entity all violations of Federal criminal law involving fraud, bribery, or gratuity violations potentially affecting the Federal award.

Submission is required for all applicants and recipients, in writing, to the IHS and to the HHS Office of Inspector General all information related to violations of Federal criminal law involving fraud, bribery, or gratuity violations potentially affecting the Federal award. 45 CFR 75.113.

Disclosures must be sent in writing to:

U.S. Department of Health and Human Services, Indian Health Service, Division of Grants Management, ATTN: Paul Gettys, Acting Director, 5600 Fishers Lane, Mail Stop: 09E70, Rockville, MD 20857 (Include “Mandatory Grant Disclosures” in subject line), Office: (301) 443-5204, Fax: (301) 594-0899, Email: Paul.Gettys@ihs.gov

And

U.S. Department of Health and Human Services, Office of Inspector General, ATTN: Mandatory Grant Disclosures, Intake Coordinator, 330 Independence Avenue SW, Cohen Building, Room 5527, Washington, DC 20201, URL: http://oig.hhs.gov/fraud/report-fraud/index.asp (Include “Mandatory Grant Disclosures” in subject line), Fax: (202) 205-0604 (Include “Mandatory Grant Disclosures” in subject line) or Email: MandatoryGranteeDisclosures@oig.hhs.gov

Failure to make required disclosures can result in any of the remedies described in 45 CFR 75.371 Remedies for noncompliance, including suspension or debarment (see 2 CFR parts 180 & 376).

VII. Agency Contacts

1. Questions on the programmatic issues may be directed to: JB Kinlacheeny, Alcohol and Substance Abuse Lead, Indian Health Service, Office of Clinical and Preventative Services/Division of Behavioral Health, 5600 Fishers Lane 08-N34B, Rockville, MD 20857, Phone: 301-443-0104, Email: jb.kinlacheeny@ihs.gov.

2. Questions on grants management and fiscal matters may be directed to: Patience Musikikongo, Grants Management Specialist, 5600 Fishers Lane, Mail Stop: 09E70, Rockville, MD 20857, Phone: 301-443-2059, Fax: (301) 594-0899, Email: Patience.Musikikongo@ihs.gov.

3. Questions on systems matters may be directed to: Paul Gettys, Acting Director, DGM, Rockville, MD 20857, Phone: (301) 443-2114; or the DGM main line (301) 443-5204, Fax: (301) 443-9602, EMail: Paul.Gettys@ihs.gov.

VIII. Other Information

The Public Health Service strongly encourages all grant, cooperative agreement and contract recipients to provide a smoke-free workplace and promote the non-use of all tobacco products. In addition, Public Law 103-227, the Pro-Children Act of 1994, prohibits smoking in certain facilities (or in some cases, any portion of the facility) in which regular or routine education, library, day care, health care, or early childhood development services are provided to children. This is consistent with the HHS mission to protect and advance the physical and mental health of the American people.

Michael D. Weahkee,
RADM, Assistant Surgeon General, U.S. Public Health Service, Director, Indian Health Service.

[FR Doc. 2020-22941 Filed 10-15-20; 8:45 am]

BILLING CODE 4165-16-P